DEPARTMENT OF EDUCATION

President's Board of Advisors on Historically Black Colleges and Universities

AGENCY: President's Board of Advisors on Historically Black Colleges and Universities, Office of Undersecretary, U.S. Department of Education, U.S. Department of Education.

ACTION: Announcement of an open meeting.

SUMMARY: This notice sets forth the agenda for the April 18, 2016, meeting of the President's Board of Advisors on Historically Black Colleges and Universities (PBA) and provides information to members of the public on submitting written comments and on the process as to how to request time to make oral comments at the meeting. The notice also describes the functions of the Board. Notice of the meeting is required by § 10(a)(2) of the Federal Advisory Committee Act and intended to notify the public of its opportunity to attend.

DATES: The PBA meeting will be held on April 18, 2016, from 9 a.m. to 3:00 p.m. E.D.T. at NASA Research & Education Support Services, 2345 Crystal Drive, Suite 500 in Arlington, Virginia 22202.

ADDRESSES: U.S. Department of Education, White House Initiative on Historically Black Colleges and Universities, 400 Maryland Avenue SW., Washington, DC 20202.

FOR FURTHER INFORMATION CONTACT: Sedika Franklin, Associate Director, U.S. Department of Education, White House Initiative on Historically Black Colleges and Universities, 400 Maryland Avenue SW., Washington, DC 20204; telephone: (202) 453-5634 or (202) 453-5630, fax: (202) 453-5632, or email sedika.franklin@ed.gov.

SUPPLEMENTARY INFORMATION: PBA's Statutory Authority and Function: The President's Board of Advisors on Historically Black Colleges and Universities (the Board) is established by Executive Order 13532 (February 26, 2010) and continued by Executive Order 13708 which was signed by the President on September 30, 2015. The Board is governed by the provisions of the Federal Advisory Committee Act (FACA), (Pub.L 92-463; as amended, 5 U.S.C.A., Appendix 2) which sets forth standards for the formation and use of advisory committees. The purpose of the Board is to advise the President and the Secretary of Education (Secretary) on all matters pertaining to strengthening the educational capacity of Historically Black Colleges and Universities (HBCUs).

The Board shall advise the President and the Secretary in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: In addition to its review of activities prior to April 18, 2016, the meeting agenda will include Chairman William R. Harvey's report on HBCU issues and concerns; Executive Director, Ivory A. Toldson will provide an update on current priorities of the White House Initiative on HBCUs to include planning strategies and initiatives; Ted Mitchell, Under Secretary of the U.S. Department of Education has been invited to provide an update on education policies relevant to HBCUs; and Chairman Harvey and Executive Director Toldson will lead a conversation regarding how the Board will complete its work as the Administration draws to a close and Chairman Harvey will open the floor for subcommittee reports (Black Males, Strategy, Science Technology Engineering and Mathematics (STEM), Community Colleges and Aspirational Support) and for the full Board to receive and vote on recommendations from each subcommittee. Oral comments will begin immediately following the conclusion of subcommittee reports.

Submission of requests to make an oral comment: There are two methods the public may use to make an oral comment at the April 18, 2016 meeting.

Method One: Submit a request by email to the whirsvps@ed.gov mailbox. Please do not send materials directly to PBA members. Requests must be received by April 11, 2016. Include in the subject line of the email request “Oral Comment Request: (Organization name).” The email must include the name(s), title, organization/affiliation, mailing address, email address, telephone number, of the person(s) requesting to speak, and a brief summary (not to exceed one page) of the principal points to be made during the oral presentation. All individuals submitting an advance request in accordance with this notice will be afforded an opportunity to speak for three minutes.

Method Two: Register at the meeting location on April 18, 2016, to make an oral comment during the PBA's deliberations concerning Historically Black Colleges and Universities. The requestor must provide his or her name, title, organization/affiliation, mailing address, email address, and telephone number. Individuals will be selected on a first-come, first-served basis. If selected, each commenter will have an opportunity to speak for three minutes.

All oral comments made will become part of the official record of the Board. Similarly, written materials distributed during oral presentations will become part of the official record of the meeting.

Submission of written public comments: The Board invites written comments, which will be read during the Public Comment segment of the agenda. Comments must be received by April 11, 2016, in the whirsvps@ed.gov mailbox, include in the subject line “Written Comments: Public Comment”. The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the PBA members.

Access to Records of the Meeting: The Department will post the official report of the meeting on the PBA Web site 90 days after the meeting. Pursuant to the Federal Advisory Committee Act (FACA), the public may also inspect the materials at 400 Maryland Avenue SW., Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Presidential Executive Order 13532, continued by Executive Order 13708.

Ted Mitchell,
Under Secretary.

[FR Doc. 2016-07675 Filed 4-4-16; 8:45 am]

BILLING CODE P